ENVIRONMENTAL PROTECTION AGENCY

[FRL-8468-6]

State Innovation Grant Program, Preliminary Notice and Request for Input on the Development of a Solicitation for Proposals for 2008 Awards

AGENCY: Environmental Protection Agency (EPA).

ACTION: Notice.

SUMMARY: The U.S. Environmental Protection Agency (EPA or Agency), National Center for Environmental Innovation (NCEI) is giving preliminary notice of its intention to solicit pre-proposals for a 2008 grant program to support innovation by state environmental agencies—the “State Innovation Grant Program.” The Agency is also seeking input from state environmental regulatory agencies on the topic areas for the solicitation. In addition, EPA is asking each state environmental regulatory agency to designate a point of contact (in addition to the Commissioner or Cabinet Secretary level) who will be the point of contact for further communication about the upcoming solicitation. If your point of contact from previous State Innovation Grant solicitations is to be your contact for this year's competition, there is no need to send that information again, as all previously designated points of contact will remain on our notification list for this year's competition. EPA anticipates publication of a Solicitation Announcement of Federal Funding Opportunity on the Federal government's grants opportunities Web site (http://www.grants.gov) to announce the availability of the next solicitation within 45 days.

DATES: State environmental regulatory agencies will have 30 days from the date of this pre-announcement notice in the Federal Register publication until October 15, 2007 to respond with: (1) Suggestions for specific topics that should be included under the general subject area of “Innovation in Environmental Permitting Programs” (e.g., topics with 1-2 paragraphs description) for the next solicitation; and (2) point of contact information for the person within the state environmental regulatory agency (in addition to Commissioner or Cabinet Secretaries) who will be designated to receive future notices about the State Innovation Grant competition. We will automatically transmit notice of availability of the solicitation to people in state agencies identified for previous solicitations.

ADDRESSES: We encourage e-mail responses. Information should be submitted in writing via: e-mail to: innovation_state_grants@epa.gov; regular mail (see below); or fax to “State Innovation Grant Program” at (202) 566-2220. If you have questions about responding to this notice, please contact EPA at this e-mail address or fax number, or you may call Sherri Walker at (202) 566-2186. For regular mail send to Sherri Walker, U.S. Environmental Protection Agency (1807T), State Innovation Grant Program; National Center for Environmental Innovation; Office of Policy, Economics, and Innovation; 1200 Pennsylvania Avenue, NW., Washington, DC 20460. Comments sent by regular or overnight mail must be received prior to close of business on October 15, 2007. Please be advised that mail sent via regular postal service may be delayed due to additional security screening requirements. For overnight delivery, send to Sherri Walker, U.S. Environmental Protection Agency (1807T), State Innovation Grant Program; 1301 Constitution Avenue, NW., EPA West, Room 4214 D, Washington, DC 20004.

EPA will acknowledge all responses it receives to this notice. If you have not received an acknowledgment from EPA within three (3) days of the end of the notice period, please send an e-mail to: innovation_state_grants@epa.gov or call Sherri Walker at (202) 566-2186. Failure to do so may result in your information or comments not being received by the deadline. EPA will respond to all questions in writing, and all questions and responses will be posted on the EPA State Innovation Grant Web site at http://www.epa.gov/innovation/stategrants. State agencies are advised to monitor this Web site for information posted in response to questions received prior to and during the competition period.

SUPPLEMENTARY INFORMATION:

Background

In April 2002, EPA issued its plan for future innovation efforts, published as Innovating for Better Environmental Results: A Strategy to Guide the Next Generation of Innovation at EPA (EPA 100-R-02-002); (http://www.epa.gov/innovation/pdf/strategy.pdf). EPA's Innovation Strategy presents a framework for environmental innovation consisting of four major elements:

1. Strengthening EPA's innovation partnership with states and tribes;

2. Focusing on priority environmental issues;

3. Diversifying environmental protection tools and approaches; and

4. Fostering more “innovation-friendly” systems and organizational cultures.

The State Innovation Grant Program strengthens EPA's partnership with the states by supporting state innovation compatible with EPA's Innovation Strategy. EPA wants to encourage states to build on previous experience (theirs and others) to undertake strategic innovation projects that promote larger-scale models for “next generation” environmental protection that promise better environmental outcomes and other beneficial results. EPA is interested in funding projects that: (i) Go beyond a single facility experiment and provide change that is “systems-oriented;” (ii) provide better results from a program, process, or sector-wide innovation; and (iii) promote integrated (multi-media) environmental management with a high potential for transfer to other states, U.S. territories, and tribes.

Since 2002, EPA has sponsored five State Innovation Grant Program competitions that asked for State project pre-proposals that support innovation generally related to environmental permitting programs. This has included alternatives to permitting and the establishment of incentives to go beyond compliance with permit requirements. To date, projects have clustered primarily around three strategic topic areas: Environmental Results Programs (ERP), Environmental Management Systems (EMS), and the National Environmental Performance Track (PT) Program and similar state performance-based environmental leadership programs. Thirty-five awards to States have been made from the five prior competitions. These projects awarded over 6.5 million dollars in assistance to States. Some of the projects fit into more than one category (e.g., combination projects of ERP with EMS, or ERP with PT). Among the grant projects, including those with pending awards: eighteen (18) were provided for development of environmental results programs, eight (8) were related to environmental management systems and permitting, eight (8) were to enhance performance-based environmental leadership programs, two (2) were for watershed-based permitting, and one (1) was for an information technology innovation for the application of geographic information systems (GIS) and a web-based portal to a permitting process. For information on prior State Innovation Grant Program solicitations and awards, please see the EPA State Innovation Grants Web site at http://www.epa.gov/innovation/stategrants.

Eligible Agencies to Compete for the State Innovation Grant: Historically, we have limited the competition to state agencies with the primary delegations from EPA for permitting programs. We are aware that some state agencies re-delegate their authorities for permitting programs to regional, county, or municipal agencies. This year, EPA is considering enlarging the competitive range of the solicitation to include those to regional, county, or municipal agencies with delegated authority, but a tantamount factor for our consideration of this proposed eligibility scenario in order to ensure the broader application of the innovation being tested by the local agency will be that the local agency include the principal state environmental regulatory agency as an active member of the project team. Agencies are encouraged to collaboratively partner with other governmental agencies or non-governmental organizations within the State (or outside of their state) that have complementary environmental mandates or symbiotic interests (e.g., energy, agriculture, natural resources management, transportation, public health). EPA will accept only one proposal from an individual state. States are also encouraged to partner with other states and American Indian tribes to address cross-boundary issues, to encourage collaborative environmental partnering within industrial sectors or in certain topical areas (e.g., agriculture), and to create networks for peer-mentoring. We anticipate, that as in previous years, a multi-state or state-tribal proposal will be accepted in addition to an individual state proposal, but a state may appear in no more than one multi-state or state-tribal proposal in addition to its individual proposal. EPA regrets that because of the limitation in available funding it is not yet able to open this competition to American Indian tribal environmental agencies but we strongly encourage tribal agencies to join with adjacent states in project proposals. EPA is interested in hearing from regional, county, or municipal agencies about their interest, capacity, and the likelihood of commitment from the principal statewide regulatory entity to assist a potential project.

Proposed General Topic Areas for Solicitation: To increase the likelihood of strategic impact with what we anticipate to be limited funds, EPA proposes to continue with the general theme of “innovation in permitting,” and additionally to continue with the focus on the three strategic topic areas similar to the last competition: (1) Projects that support the development of state Environmental Results Programs (ERP); (2) projects which involve the application of Environmental Management Systems (EMS) including those that explore the relationship of EMS to permitting or otherwise promote the use of EMS to improve environmental performance beyond permit requirements (see EPA's Strategy for Determining the Role of EMS in Regulatory Programs at http://www.epa.gov/ems or http://www.epa.gov/ems/docs/EMS_and_the_Reg_Structure_41204Fpdf)(3) projects that support state performance-based environmental leadership programs or state support for implementation of the National Environmental Performance Track Program, particularly including the development and implementation of incentives. EPA's focus on a small number of topics within this general subject area effectively concentrates the limited resources available for greater strategic impact.

Projects will be much less likely to be funded through the State Innovation Grant Program if agency resources pertinent to the topic are already available through another EPA program.

Request for Input on Solicitation Topics and Priorities: EPA encourages communication from States and other parties about these three thematic areas mentioned here and other areas potentially ripe for innovation. EPA is asking for state environmental regulatory agencies and other interested parties to provide brief (about 1 paragraph) suggestions about additional innovation topics within the subject of innovation in permitting for possible inclusion in the upcoming solicitation. In addition to the three topic areas ERP, EMS, and PT, EPA will continue to encourage project proposals that address the four major elements (i.e., strengthening innovation partnerships; focusing on priority environmental issues; diversifying environmental protection tools and approaches; and fostering “innovation-friendly” systems and organizational cultures) and use tools (i.e., incentives, information resources, results-based goals and measures, etc.) highlighted in the Innovation Strategy. EPA may contemplate a very limited number of projects otherwise related to the general theme of innovation in permitting, in particular as they may address EPA regional and state environmental permitting priorities. To date, the State Innovation Grant Program has supported ERPs for: auto body/ auto repair/auto salvage sectors in six (6) state projects, underground storage tanks (UST) in three (3) states, dry cleaning in two (2) states, stormwater management in two (2) states, printing sector in one (1) state, animal feedlot operations in one (1) state, underground injection wells management in one (1) state, and oil and gas production in one (1) state. We are interested in continuing the EMS theme, but may consider some change to this theme. Also, we may be interested in projects that promote a developmental component or type of “on-ramp” for potential environmental leaders that require upfront compliance assistance. We may also be interested in exploring PT projects with an air permit component.

State Innovation Grants will not be applied to the development or demonstration of new environmental technologies. These assistance agreements will not be awarded for the development of information systems or data or projects that have as a primary focus the upgrading of information technology systems, unless there is a clear link to innovation in specific permitting programs. Projects would be much less likely to be funded through this State Innovation Grant if agency resources are already available through another agency program. Project selections and awards will be subject to funding availability. State environmental regulatory agency and other respondents should send their suggestions to EPA by mail, e-mail, or fax as described in the ADDRESSES section above.

Request for Input on Diffuse Delegations and Designation of a Primary Point of Contact: One of the principal goals of the State Innovation Grant program is the testing of an integrated (multi-media) innovation with the potential for replication or broader application in other sectors, permitting programs, agencies, states, or tribes. Because of the limitation of funds we have historically limited the competition to state agencies with a primary delegation from EPA for permitting programs. We have concerns that opening the competition to regulatory entities at lower levels (e.g. air control boards, water quality management districts, counties or municipalities) may limit the range of results and the potential for transferability of innovative approaches. We recognize, however, that in some instances states have re-delegated programs to regional or local agencies and that those agencies may manage substantial permitting programs. EPA is seeking comment from states that may have re-delegated several authorities to other governing regional or municipal agencies or boards rather than in one centralized state environmental regulatory agency and from the boards and districts on how we might accommodate those delegations in this program and take advantage of the expertise in those programs while maintaining the strategically important goal of testing innovation for broad application and transferability. EPA asks that each state environmental regulatory agency designate a primary point-of-contact who we will add to the EPA notification list for further announcements about the State Innovation Grant Program. For point of contact information, please provide: name, title, department and agency, street or post office address, city, state, zip code, telephone, fax number, and e-mail address. If your point of contact from previous State Innovation Grant solicitations is to be your contact for this year's competition, there is no need to send that information again, as all previously designated points of contact will remain on our notification list for this year's competition. We are asking that any new name be submitted with the approval of the highest levels of management within an Agency (Commissioner, Director, Secretary, or their deputies) within 30 days after publication of this notice in the Federal Register. Please submit this information to EPA by mail, fax, or e-mail prior to October 15, 2007 in the following manner:

By mail to: State Innovation Grant Program, National Center for Environmental Innovation, U.S. Environmental Protection Agency (1807T), 1200 Pennsylvania Avenue, NW., Washington DC 20460.

By fax to: State Innovation Grant Program, (202) 566-2220.

By e-mail to: Innovation_State_Grants@EPA.gov.

We encourage e-mail responses. If you have questions about responding to this notice, please contact EPA at this e-mail address of fax number, or you may call Sherri Walker at (202) 566-2186. For point-of-contact information, please provide: Name, title, department and agency, mailing address (street or P.O. Box), city, state, zip code, telephone, fax number, and e-mail address. EPA will acknowledge all responses it receives to this notice.

Opportunity for Dialogue: Between now and the initiation of the competition with the release of the solicitation, communication with potential applicants may include helping potential applicants determine whether the applicant itself is eligible or if the scope of an applicant's potential project is suitable for funding, and responding to general requests for clarification of the notice. To ensure an equal opportunity for all potential applicants, responses to questions that come to us during the period between this pre-announcement and the release of the solicitation along with helpful resource materials will be posted on the State Innovation Grant Web site at http://www.epa.gov/innovation/stategrants. States are also invited to communicate with NCEI about ideas for future competition themes by contacting the EPA Headquarters contact listed below. The contacts for the EPA Regions and the EPA HQ National Center for Environmental Innovation are as follows:

Anne Leiby or Josh Secunda, U.S. EPA Region 1, 1 Congress Street, Suite 1100, Boston, MA 02114-2023, (617) 918-1076 or (617) 918-1736, leiby.anne@epa.gov or secunda.josh@epa.gov. States: CT, MA, ME, NH, RI, VT.

Michael Dunn, U.S. EPA Region 3, 1650 Arch Street (3EA40), Philadelphia, PA 19103, (215) 814-2712, dunn.michael@epa.gov. States: DC, DE, MD, PA, VA, WV.

Marilou Martin, U.S. EPA Region 5, 77 West Jackson Boulevard, Chicago, IL 60604-3507, (312) 353-9660, martin.marilou@epa.gov. States: IL, IN, MI, MN, OH, WI.

Wendy Lubbe, U.S. EPA Region 7, 901 North 5th Street, Kansas City, KS 66101, (913) 551-7551, lubbe.wendy@epa.gov. States: IA, KS, MO, NE.

Loretta Barsamian, U.S. EPA Region 9, 75 Hawthorne Street (SPE-1), San Francisco, CA 94105, (415) 947-4268, barsamian.loretta@epa.gov. States and Territories: AS, AZ, CA, GU, HI, NV.

Jennifer Thatcher, U.S. EPA Region 2, 290 Broadway, 26th Floor, New York, NY 10007-1866, (212) 637-3593, thatcher.jennifer@epa.gov. States & Territories: NJ, NY, PR, VI.

LaToya Miller, U.S. EPA Region 4, 61 Forsyth Street, SW., Atlanta, GA 30303, (404) 562-9885, miller.latoya@epa.gov. States: AL, FL, GA, KY, MS, NC, SC, TN.

Craig Weeks, U.S. EPA Region 6, Fountain Place, Suite 1200, 1445 Ross Avenue, Dallas, TX 75202-2733, (214) 665-7505, weeks.craig@epa.gov. States: AR, LA, NM, OK, TX.

Whitney Trulove-Cranor, U.S. EPA Region 8, 999 18th Street, Suite 300, Denver, CO 80202-2466, (303) 312-6099, trulove-cranor.whitney@epa.gov. States: CO, MT, ND, SD, UT, WY.

Bill Glasser, U.S. EPA Region 10, 1200 Sixth Avenue (ENF-T), Seattle, WA 98101, (206) 553-7215, glasser.william@epa.gov. States: AK, ID, OR, WA.

Headquarters Office: Sherri Walker, U.S. EPA (MC 1807T), Office of the Administrator, National Center for Environmental Innovation, State Innovation Grants Program, 1200 Pennsylvania Avenue, NW., Washington, DC 20460, (202) 566-2186, (202) 566-2220 fax.

For courier delivery only: Sherri Walker, U.S. EPA, EPA West Building, Room 4214D, 1301 Constitution Avenue, NW., Washington, DC 20005.

Opportunity for Pre-Competition Briefings and Addressing Questions: In addition, prior to this year's solicitation, we are planning to host a series of briefings and opportunities for question and answer (Q&A) sessions via teleconference calls, one with each EPA Region and all of their States. These conference calls will enable us to offer a two-hour streamlined proposal development briefing to all States prior to our solicitation, and will allow us to answer any questions that the States have prior to the competition, in keeping with Federal requirements that we afford assistance fairly in a competition process. Specific conference call logistics and grant resource information will be provided to each Region and the States as well as being posted on our Web site at http://www.epa.gov/innovation/stategrants. Pre-competition briefing summaries, and all other all resource materials will be posted on the Web site at http://www.epa.gov/innovation/stategrants. Through this effort, we are hoping to encourage individual States (and/or State-led teams) to submit well-developed pre-proposals that effectively describe in particular how their project will achieve measurable environmental results.

Dated: September 10, 2007.
David Widawsky,
Associate Office Director, Office of Environmental Policy Innovation.

[FR Doc. E7-18164 Filed 9-13-07; 8:45 am]

BILLING CODE 6560-50-P